DEPARTMENT OF TRANSPORTATION

Federal Highway Administration

Rescinding the Notice of Intent for an Environmental Impact Statement; Multiple Counties, Alabama

AGENCY: Federal Highway Administration (FHWA), DOT.

ACTION: Rescind Notice of Intent.

SUMMARY: The FHWA is issuing this notice to advise the public that the 2005 Notice of Intent (NOI) published in the Federal Register for Federal-aid project NCPD-PE02(910), the I-85 Extension, in multiple counties in Alabama is being rescinded. A final environmental impact statement (EIS) will not be prepared for this project.

FOR FURTHER INFORMATION CONTACT: Mr. Mark D. Bartlett, Division Administrator, Federal Highway Administration, 9500 Wynlakes Place, Montgomery, Alabama 36117; Email: mark.bartlett@dot.gov; Telephone: (334) 274-6350.

SUPPLEMENTARY INFORMATION: The FHWA, in cooperation with the Alabama Department of Transportation, is rescinding the NOI to prepare an EIS for Federal-aid project NCPD-PE02(910). The proposed project was to construct a multi-lane, limited access roadway to provide a connecting link in the freeway/Interstate system between Interstate 59/Interstate 20 (I-59/I-20) near the Mississippi state line and I-85 in Montgomery, Alabama. The study area included large parts of six Black Belt Counties (Dallas, Hale, Lowndes, Marengo, Perry, and Sumter), as well as Autauga and Montgomery Counties.

The NOI for the project was published in the Federal Register on September 20, 2005. A draft EIS was released in April 2010. The FHWA has determined, in conjunction with ALDOT, the NOI for the project shall be rescinded due to changes in economic projections and the lack of available funding. ALDOT has reassessed the needs and timing for the completion of this project and indefinitely postponed development.

Any future Federal-aid actions within this corridor will comply with environmental review requirements of the National Environmental Policy Act (NEPA, 42 U.S.C. 4321, et seq.), FHWA environmental regulations (23 CFR 771) and related authorities, as appropriate.

Authority: 23 U.S.C. 315; 49 CFR 1.48.

(Catalog of Federal Domestic Assistance Program Number 20.205, Highway Planning and Construction. The regulations implementing Executive Order 12372 regarding intergovernmental consultation on Federal programs and activities apply to this program.)

Issued on: August 20, 2018.
Mark Bartlett,
Division Administrator, Federal Highway Administration, Montgomery, Alabama.

[FR Doc. 2018-18670 Filed 8-28-18; 8:45 am]

BILLING CODE 4910-22-P